FEDERAL LABOR RELATIONS AUTHORITY

Notice of Opportunity to Attend Focus Group Meeting and/or Submit Written Comments Regarding the Quality of the Authority's Written Decisions and the Measures for Assessing That Quality

AGENCY: Federal Labor Relations Authority.

ACTION: Notice of meeting and request for comments.

SUMMARY: The decisional component of the Federal Labor Relations Authority is evaluating the quality of the Authority's written decisions and the measures for assessing that quality. The Authority has established an internal Task Force to conduct this evaluation. The Task Force proposes to conduct a focus group meeting to solicit and consider customers' views on the quality of Authority decisions and measurements of such quality.

DATES: A meeting will be held at 10 a.m. on July 19, 2000, in Washington, DC. Written comments must be received on or before July 31, 2000.

ADDRESSES: The meeting will be held at the Federal Labor Relations Authority's Headquarters, 607 14th St. NW., Washington, DC 20424, 2nd Floor Agenda Room. Mail or deliver written comments to the Office of Case Control, Federal Labor Relations Authority, 607 14th Street, NW., Washington, DC 20424-0001.

FOR FURTHER INFORMATION CONTACT: For further information or to register for the meeting contact the Authority's Office of Case Control, at the address listed above or by telephone at (202) 482-6540. If you prefer to participate in a discussion with representatives from local unions and agency field offices during the meeting, please indicate your preference when you register.

SUPPLEMENTARY INFORMATION: Pursuant to the Government Performance and Results Act of 1993, Pub. L. 103-62, 107 Stat. 285, the Federal Labor Relations Authority has identified as a performance goal that it shall “consistently comply with established quality standards (with) ongoing evaluation of the effectiveness of quality performance measures.” The Chairman and Members of the Authority have established an internal Task Force to evaluate the quality of the Authority's written decisions and the measures for assessing that quality. To that end, the Authority will hold a meeting with interested persons to receive comments in response to the following questions:

• With what frequency and for what purposes do you read Authority decisions?

• Are you able to use easily Authority decisions as guidance regarding labor-management relations?

• What is your overall impression of the quality of the decisions?

• What specific comments do you have about the decisions' clarity, precision, length, format, timeliness, usefulness, and responsiveness to the issues raised?

• How would you define a high quality Authority decision?

• What, if any, changes would you make to the style, timing and/or content of the Authority's decisions?

• What are the measures of quality that you would recommend applying to Authority decisions?

• Do you have any other comments regarding the quality of Authority decisions?

You may also submit written comments in response to these questions. Written comments must be received on or before July 31, 2000, by the Office of Case Control, Federal Labor Relations Authority, at the address listed above.

Dated: June 15, 2000.
For the Authority.
Peter J. Constantine,
Director of Case Control.

[FR Doc. 00-15512 Filed 6-19-00; 8:45 am]

BILLING CODE 6727-01-P